DEPARTMENT OF ENERGY

Federal Energy Regulatory Commission

[Docket No. CP01-4-000, Docket No. CP01-5-000, Docket No. CP01-8-000]

Maritimes & Northeast Pipeline L.L.C., Algonquin Gas Transmission Company, Texas Eastern Transmission Corporation; Notice of Public Comment Meetings on the Draft Environmental Impact Statement for the Proposed Maritimes Phase III/Hubline Project

July 27, 2001.

The staff of the Federal Energy Regulatory Commission (FERC or Commission) has prepared a draft environmental impact statement (DEIS) that discusses the environmental impacts of the Maritimes Phase III/HubLine Project involving construction and operation of facilities by Maritimes & Northeast Pipeline, L.L.C. (Maritimes) in Essex and Middlesex Counties, Massachusetts and Algonquin Gas Transmission Company (Algonquin) in primarily offshore Essex, Suffolk, Plymouth, and Norfolk Counties, Massachusetts. There would be minor onshore facilities in Suffolk and Norfolk Counties. The project facilities would consist of about 25 miles of 30- and 24-inch-diameter onshore pipeline and about 35 miles of 24- and 16-inch-diameter offshore pipeline.

This notice is being sent to all persons to whom we ¹ mailed the DEIS.

¹ ”We”, “us”, and “our” refer to the environmental staff of the Office of Energy Projects (OEP).

Public Meetings

In addition to or in lieu of sending written comments, we invite you to attend the public comment meetings the FERC will conduct in the project area. The locations and time for the meetings are listed below:

Date and Time | Location
August 14, 2001 7:00 PM | Danvers Senior Center, 25 Stone Street, Danvers, Massachusetts
August 15, 2001 7:00 PM | Fuller Meadows School, 143 South Main Street, Middleton, Massachusetts

The public meetings are designed to provide you with an opportunity to offer your comments on the DEIS in person. A transcript of the meetings will be made so that your comments will be accurately recorded.

You may also provide written comments. Instructions on how to provide written or electronic comments were included in the DEIS. Please send your comments so that they will be received in Washington, DC on or before August 27, 2001.

David P. Boergers,
Secretary.

[FR Doc. 01-19269 Filed 8-1-01; 8:45 am]

BILLING CODE 6717-01-P